DEPARTMENT OF THE TREASURY

United States Mint

Prices of First Spouse and End of World War II 75th Anniversary Gold Coins on the 2020 Pricing of Numismatic Gold, Commemorative Gold, Platinum, and Palladium Products Grid

AGENCY: United States Mint, Department of the Treasury.

ACTION: Notice.

SUMMARY: The United States Mint announces pricing for the First Spouse and End of World War II 75th Anniversary Gold Coins on the 2020 Pricing of Numismatic Gold, Commemorative Gold, Platinum, and Palladium Products Grid.

FOR FURTHER INFORMATION CONTACT: Cathy Olson; Sales and Marketing Directorate; United States Mint; 801 9th Street NW; Washington, DC 20220; or call 202-354-7500 or colson@usmint.treas.gov.

SUPPLEMENTARY INFORMATION: An excerpt of the grid, including a recent price range for the First Spouse and End of World War II 75th Anniversary Gold Coins, appears below:

The complete 2020 Pricing of Numismatic Gold, Commemorative Gold, Platinum, and Palladium Products Grid will be available online at https://catalog.usmint.gov/coin-programs/american-eagle-coins.

Pricing can vary weekly dependent upon the London Bullion Market Association gold, platinum, and palladium prices weekly average. The pricing for all United States Mint numismatic gold, platinum, and palladium products is evaluated every Wednesday and modified as necessary.

Authority: 31 U.S.C. 5111, 5112, and 9701, P.L. 116-112

Eric Anderson,
Executive Secretary, United States Mint.

[FR Doc. 2020-17226 Filed 8-6-20; 8:45 am]

BILLING CODE P